DEPARTMENT OF TRANSPORTATION

Federal Aviation Administration

Notice of Intent To Rule on Application To Use the Revenue From a Passenger Facility Charge (PFC) at Hector International Airport, Fargo, North Dakota

AGENCY: Federal Aviation Administration (FAA), DOT.

ACTION: Notice of Intent to Rule on Application.

SUMMARY: The FAA proposes to rule and invites public comment on the application to use the revenue from a PFC at Hector International Airport under the provisions of the Aviation Safety and Capacity Expansion Act of 1990 (Title IX of the Omnibus Budget Reconciliation Act of 1990) (Public Law 101-508) and Part 158 of the Federal Aviation Regulations (14 CFR Part 158).

DATES: Comments must be received or before February 17, 2000.

ADDRESSES: Comments on this application may be mailed or delivered in triplicate to the FAA at the following address: Federal Aviation Administration, Bismarck Airports District Office, 2000 University Drive, Bismarck, North Dakota 58504.

In addition, one copy of any comments submitted to the FAA must be mailed or delivered to Mr. Shawn Dobberstein, Executive Director, of the Municipal Airport Authority, Fargo, North Dakota at the following address: Municipal Airport Authority, P.O. Box 2845, Fargo, North Dakota 58108.

Air carriers and foreign air carriers may submit copies of written comments previously provided to the Municipal Airport Authority, Fargo, North Dakota under § 158.23 of Part 158.

FOR FURTHER INFORMATION CONTACT: Ms. Irene R. Porter, Manager, Bismarck Airports District Office, 2000 University Drive, Bismarck, North Dakota 58504, (701) 250-4385. The application may be reviewed in person at this same location.

SUPPLEMENTARY INFORMATION: The FAA proposes to rule and invite public comment on the application to use the revenue from a PFC at Hector International Airport under the provisions of the Aviation Safety and Capacity Expansion Act of 1990 (Title IX of the Omnibus Budget Reconciliation Act of 1990) (Public Law 101-508) and Part 158 of the Federal Aviation Regulations (14 CFR Part 158).

On December 29, 1999, the FAA determined that the application to use the revenue from a PFC submitted by the Municipal Airport Authority, Fargo, North Dakota was substantially complete within the requirements of § 158.25 of part 158. The FAA will approve or disapprove the application, in whole or in part, no later than March 29, 2000.

The following is a brief overview of the application.

PFC application number: 00-04-U-00-FAR.

Level of the PFC: $3.00.

Actual charge effective date: January 1, 1997.

Estimated charge expiration date: February 1, 2000.

Total approved net PFC revenue: $1,720,410.00.

Brief description of proposed project: Install a box culvert in Cass County Drain 10.

Class or classes of air carriers which the public agency has requested not be required to collect PFCs: Air Taxi/Commercial Operator (ATCO) Class Carriers filing FAA Form 1800-31.

Any person may inspect the application in person at the FAA office listed above under “FOR FURTHER INFORMATION CONTACT.”

In addition, any person may, upon request, inspect the application, notice and other documents germane to the application in person at the Municipal Airport Authority, Fargo, North Dakota—Executive Directors offices at the Hector International Airport.

Issued in Des Plaines, Illinois on January 5, 2000.

Benito De Leon,
Manager, Planning and Programming Branch, Airport Division, Great Lakes Region.

[FR Doc. 00-1054 Filed 1-14-00; 8:45 am]

BILLING CODE 4910-13-M